FEDERAL COMMUNICATIONS COMMISSION

47 CFR Part 73

[DA 02-61]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective February 14, 2002.

FOR FURTHER INFORMATION CONTACT: Kathleen Scheuerle, Mass Media Bureau, (202) 418-2180.

SUPPLEMENTARY INFORMATION: This is a summary of the Commission's Report and Order, adopted January 2, 2002, and released January 11, 2002. The full text of this Commission decision is available for inspection and copying during regular business hours at the FCC Reference Information Center, Portals II, 445 12th Street, SW., Room CY-A257, Washington, DC, 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arkansas, is amended by removing Channel 293A and adding Channel 293C3 at Horseshoe Bend.

3. Section 73.202(b), the Table of FM Allotments under Illinois, is amended by removing Channel 258B and adding Channel 258C1 at Quincy.

4. Section 73.202(b), the Table of FM Allotments under New York, is amended by removing Channel 292C3 and adding Channel 292C2 at Saranac Lake.

5. Section 73.202(b), the Table of FM Allotments under Oregon, is amended by removing Channel 259C3 and adding Channel 259C2 at Bend.

6. Section 73.202(b), the Table of FM Allotments under Texas, is amended by removing Channel 263C2 and adding Channel 236C2 at College Station.\1\

¹ This action corrects the FM Table of Allotments to show the allotment of Channel 236C2 at College Station in lieu of Channel 263C2. MM Docket No. 91-58 substituted Channel 236C2 for Channel 297C3 at College Station. See 60 FR 35512, July 10, 1995.

7. Section 73.202(b), the Table of FM Allotments under Utah, is amended by removing Channel 244C1 and adding Channel 244C at Levan.

Federal Communications Commission.
John A. Karousos,
Chief, Allocations Branch, Policy and Rules Division, Mass Media Bureau.

[FR Doc. 02-3622 Filed 2-13-02; 8:45 am]

BILLING CODE 6712-01-P